DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 6, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Control of African Swine Fever; Restrictions on the Movement of Swine Products and Swine Byproducts from Puerto Rico and the U.S. Virgin Islands.

OMB Control Number: 0579-0480.

Summary of Collection: Under the Animal Health Protection Act (7 U.S.C. 8301 et seq.) the Secretary of the U.S. Department of Agriculture (USDA) is authorized to protect the health of the livestock, poultry, and aquaculture populations in the United States by preventing the introduction and interstate spread of serious diseases and pests, and for eradicating such diseases and pests from the United States, when feasible. Within the USDA, the Animal and Plant Health Inspection Service (APHIS Veterinary Services (VS) is tasked with preventing foreign animal disease outbreaks in the United States, and monitoring, controlling, and eliminating a disease outbreak should one occur. In the past several years, there have been significant worldwide outbreaks of African swine fever (ASF), a highly contagious and deadly viral disease affecting domestic and feral pigs. APHIS is committed to working with State and industry partners to keep the disease out of the United States.

Need and Use of the Information: To certify compliance with the restriction guidelines in the Federal Order for the interstate movement of swine products and byproducts from Puerto Rico and the U.S. Virgin Islands, commercial producers must meet the requirements as listed in the Federal Order or complete a VS Form 16-3, an application for a permit to import or transport controlled material or organisms or vectors. The collection of this information prevents unhealthy swine products and byproducts from being imported into the United States.

Description of Respondents: State animal health officials, and commercial producers of swine products and byproducts.

Number of Respondents: 22.

Frequency of Responses: Reporting: On occasion.

Total Burden Hours: 60.

Dated: May 5, 2022.
Ruth Brown,
Departmental Information Collection Clearance Officer.

[FR Doc. 2022-09733 Filed 5-5-22; 8:45 am]

BILLING CODE 3410-34-P